DEPARTMENT OF TRANSPORTATION

Office of the Secretary

Notice of Applications for Certificates of Public Convenience and Necessity and Foreign Air Carrier Permits Filed Under Subpart B (Formerly Subpart Q) During the Week Ending December 24, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0232.

Date Filed: December 20, 2011.

Due Date for Answers, Conforming Applications, or Motion to Modify Scope: January 10, 2012.

Description

Application of Atlantic Southeast Airlines, Inc. notifying the Department, pursuant to the requirements of 14 CFR 215.4, of a change in the carrier's name to “ExpressJet Airlines, Inc.” and requesting the reissuance of its certificates of public convenience and necessity and other economic authorities and requests that the trade names “ASA,” “Atlantic Southeast,” and “Atlantic Southeast Airlines, Inc.” be registered for use in its operations.

Renee V. Wright,
Program Manager, Docket Operations, Federal Register Liaison.

[FR Doc. 2012-683 Filed 1-13-12; 8:45 am]

BILLING CODE 4910-9X-P